DEPARTMENT OF THE INTERIOR

Bureau of Reclamation

Potholes Reservoir Resource Management Plan, Grant County, WA

AGENCY: Bureau of Reclamation, Interior.

ACTION: Notice of extension of review and comment period.

SUMMARY: A Notice of Availability and Public Hearing was published in the Federal Register on February 6, 2001 (66 FR 9094-9095). This notice extends the period for review and comment from March 27, 2001, to April 27, 2001.

Pursuant to section 102(2)(C) of the National Environmental Policy Act of 1969, as amended, the Department of the Interior, Bureau of Reclamation (Reclamation), prepared a draft environmental impact statement (Draft EIS) to document the analysis of four alternatives, including the No Action Alternative, for resource management in the Potholes Reservoir Study area. The alternatives respond differently to the issues and concerns identified during project planning. The Preferred Alternative is Alternative B, which balances the management agencies' and public's long-term vision for Potholes Reservoir and recognizes the need to protect the natural and cultural environment while supporting the overall recreational interest of the visitors.

DATES: Written comments on the Draft EIS must be received no later than April 27, 2001 at the address listed in Addresses section below.

ADDRESSES: Written comments on the Draft EIS should be submitted to Mr. Jim Blanchard, Bureau of Reclamation, Ephrata Field Office, 32 C Street, Box 815, Ephrata, WA 98823; or by fax (509) 754-0239.

Our practice is to make comments, including names and home addresses of respondents, available for public review. Individual respondents may request that we withhold their home address from public disclosure, which we will honor to the extent allowable by law. If you wish us to withhold your name and/or address, you must state this prominently at the beginning of your comment. We will make all submissions from organizations or businesses, and from individuals identifying themselves as representatives or officials of organizations or businesses, available for public disclosure in their entirety.

See Supplementary Information section for locations where copies of the Draft EIS are available for public review and inspection.

FOR FURTHER INFORMATION CONTACT: For information, or to obtain a copy of the Draft EIS, contact Mr. Jim Blanchard at (509) 754-0239, extension 226.

SUPPLEMENTARY INFORMATION: The purpose of developing a RMP for Potholes Reservoir is to balance the resource protection and conservation objectives with the rising demand for increased recreation opportunities, visitor facilities, and support services.

Review and Inspection of the Draft EIS

Copies of the Draft EIS are available for public review and inspection at the following locations:

• Bureau of Reclamation, U.S. Department of the Interior, Room 7455, 18th and C Streets, NW, Washington, D.C.

• Bureau of Reclamation, Pacific Northwest Regional Office, 1150 North Curtis Road, Suite 100, Boise, Idaho.

• Bureau of Reclamation, Upper Columbia Area Office, 1917 Marsh Road, Yakima, Washington.

• Bureau of Reclamation, Ephrata Field Office, 32 C Street, Box 815, Ephrata, WA.

Libraries

• Bridgeport Community Library, Bridgeport WA.

• Des Moines Library, 21620 11th Avenue S., Des Moines, WA.

• Coulee City Community Library, Coulee City, WA.

• East Wenatchee Community Library, 271 9th Street NE, East Wenatchee, WA.

• Ephrata Public Library, 45 Alder NW, Ephrata, WA.

• Moses Lake Public Library, 418 E. 5th Avenue, Moses Lake, WA.

• Royal City Community Library, Royal City, WA.

• Soap Lake Community Library, Soap Lake, WA.

• Wenatchee Public Library, 310 Douglas Street, Wenatchee, WA.

Internet

The Draft EIS is also available on the Internet at http://www.pn.usbr.gov/

J. Eric Glover,
Acting Regional Director, Pacific Northwest Region.

[FR Doc. 01-8723 Filed 4-9-01; 8:45 am]

BILLING CODE 4310-MN-P